DEPARTMENT OF ENERGY

Federal Energy Regulatory Commission

Sunshine Act Meeting Notice

June 30, 2004.

The following notice of meeting is published pursuant to section 3(a) of the Government in the Sunshine Act (Pub. L. 94-409), 5 U.S.C 552b:

Agency Holding Meeting: Federal Energy Regulatory Commission.

Date and Time: July 7, 2004, 10 a.m.

Place: Room 2C, 888 First Street, NE., Washington, DC 20426.

Status: Open.

Matters To Be Considered: Agenda.

*Note: —Items listed on the Agenda may be deleted without further notice.

Contact Person for More Information: Magalie R. Salas, Secretary, Telephone (202) 502-8400. For a recording listing items stricken from or added to the meeting, call (202) 502-8627.

This is a list of matters to be considered by the Commission. It does not include a listing of all papers relevant to the items on the Agenda; however, all public documents may be examined in the Reference and Information Center.

864th Meeting July 7, 2004

Regular Meeting, 10 a.m.

Administrative Agenda

A-1.

DOCKET# AD02-1, 000, AGENCY ADMINISTRATIVE MATTERS

A-2.

DOCKET# AD02-7, 000, CUSTOMER MATTERS, RELIABILITY, SECURITY AND MARKET OPERATIONS

Markets, Tariffs and Rates—Electric

E-1.

DOCKET# ER96-2495, 018, AEP POWER MARKETING, INC., AEP SERVICE CORPORATION, CSW POWER MARKETING, INC., CSW ENERGY SERVICES, INC., AND CENTRAL AND SOUTH WEST SERVICES, INC.

OTHER#S ER97-1238, 013, AEP POWER MARKETING, INC., AEP SERVICE CORPORATION, CSW POWER MARKETING, INC., CSW ENERGY SERVICES, INC., AND CENTRAL AND SOUTH WEST SERVICES, INC.

ER97-4143, 006, AEP POWER MARKETING, INC., AEP SERVICE CORPORATION, CSW POWER MARKETING, INC., CSW ENERGY SERVICES, INC., AND CENTRAL AND SOUTH WEST SERVICES, INC.

ER98-542, 008, AEP POWER MARKETING, INC., AEP SERVICE CORPORATION, CSW POWER MARKETING, INC., CSW ENERGY SERVICES, INC., AND CENTRAL AND SOUTH WEST SERVICES, INC.

ER98-2075, 012, AEP POWER MARKETING, INC., AEP SERVICE CORPORATION, CSW POWER MARKETING, INC., CSW ENERGY SERVICES, INC., AND CENTRAL AND SOUTH WEST SERVICES, INC.

ER91-569, 021, ENTERGY SERVICES, INC.

ER97-4166, 013, SOUTHERN COMPANY ENERGY MARKETING L.P.

PL02-8, 001, CONFERENCE ON SUPPLY MARGIN ASSESSMENT

E-2.

OMITTED

E-3.

DOCKET# ER04-835, 000, CALIFORNIA INDEPENDENT SYSTEM OPERATOR CORPORATION

E-4.

DOCKET# ER04-830, 000, ENTERGY SERVICES, INC.

ER04-699, 000, ENTERGY SERVICES, INC.

ER96-719, 000, MIDAMERICAN ENERGY COMPANY

E-5.

DOCKET# ER04-833, 000, SOUTHWEST POWER POOL, INC.

E-6.

DOCKET# ER04-828, 000, PACIFIC GAS AND ELECTRIC COMPANY

E-7.

DOCKET# QF95-328, 006, ECOELECTRICA, L.P.

E-8.

DOCKET# ER04-457, 000, PJM INTERCONNECTION L.L.C.

E-9.

OMITTED

E-10.

DOCKET# ER04-763, 000, ENTERGY SERVICES, INC.

OTHER#S ER04-763, 001, ENTERGY SERVICES, INC.

E-11.

DOCKET# ER04-458, 000, MIDWEST INDEPENDENT TRANSMISSION SYSTEM OPERATOR, INC.

OTHER#S ER04-458, 001, MIDWEST INDEPENDENT TRANSMISSION SYSTEM OPERATOR, INC.

E-12.

DOCKET# ER04-764, 000, SOUTH CAROLINA ELECTRIC & GAS COMPANY

OTHER#S ER04-764, 001, SOUTH CAROLINA ELECTRIC & GAS COMPANY

E-13.

DOCKET# NJ04-3, 000, SOUTH CAROLINA PUBLIC SERVICE AUTHORITY

E-14.

DOCKET# ER04-841, 000, USGEN NEW ENGLAND, INC.

E-15.

DOCKET# ER03-1272, 002, ENTERGY SERVICES, INC.

E-16.

DOCKET# ER03-1086, 001, PJM INTERCONNECTION L.L.C.

OTHER#S ER03-1086, 002, PJM INTERCONNECTION L.L.C.

ER03-1086, 003, PJM INTERCONNECTION L.L.C.

E-17.

DOCKET# ER03-854, 002, ISO NEW ENGLAND, INC.

E-18.

OMITTED

E-19.

OMITTED

E-20.

OMITTED

E-21.

OMITTED

E-22.

DOCKET# EL02-77, 001, PUGET SOUND ENERGY, INC.

E-23.

DOCKET# EL98-6, 002, OLD DOMINION ELECTRIC COOPERATIVE V. PUBLIC SERVICE ELECTRIC AND GAS COMPANY

E-24.

OMITTED

E-25.

DOCKET# OA97-261, 008, PENNSYLVANIA-NEW JERSEY-MARYLAND INTERCONNECTION

OTHER#S EC96-28, 008, ATLANTIC CITY ELECTRIC COMPANY, BALTIMORE GAS AND ELECTRIC COMPANY, DELMARVA POWER & LIGHT COMPANY, JERSEY CENTRAL POWER & LIGHT COMPANY, METROPOLITAN EDISON COMPANY, PENNSYLVANIA ELECTRIC COMPANY, PENNSYLVANIA POWER & LIGHT COMPANY, POTOMAC ELECTRIC POWER COMPANY AND PUBLIC SERVICE ELECTRIC AND GAS COMPANY

EC96-29, 008, PECO ENERGY COMPANY

EL96-69, 008, ATLANTIC CITY ELECTRIC COMPANY, BALTIMORE GAS AND ELECTRIC COMPANY, DELMARVA POWER & LIGHT COMPANY, JERSEY CENTRAL POWER & LIGHT COMPANY, METROPOLITAN EDISON COMPANY, PENNSYLVANIA ELECTRIC COMPANY, PENNSYLVANIA POWER & LIGHT COMPANY, POTOMAC ELECTRIC POWER COMPANY AND PUBLIC SERVICE ELECTRIC AND GAS COMPANY

ER96-2516, 009, ATLANTIC CITY ELECTRIC COMPANY, BALTIMORE GAS AND ELECTRIC COMPANY, DELMARVA POWER & LIGHT COMPANY, JERSEY CENTRAL POWER & LIGHT COMPANY, METROPOLITAN EDISON COMPANY, PENNSYLVANIA ELECTRIC COMPANY, PENNSYLVANIA POWER & LIGHT COMPANY, POTOMAC ELECTRIC POWER COMPANY AND PUBLIC SERVICE ELECTRIC AND GAS COMPANY

ER96-2668, 008, PECO ENERGY COMPANY

EC97-38, 006, PENNSYLVANIA ELECTRIC COMPANY, PENNSYLVANIA POWER & LIGHT COMPANY, POTOMAC ELECTRIC POWER COMPANY, PUBLIC SERVICE ELECTRIC AND GAS COMPANY, ATLANTIC CITY ELECTRIC COMPANY, BALTIMORE GAS AND ELECTRIC COMPANY, DELMARVA POWER & LIGHT COMPANY, JERSEY CENTRAL POWER & LIGHT COMPANY, JERSEY CENTRAL POWER & LIGHT COMPANY AND METROPOLITAN EDISON COMPANY

EL97-44, 006, PENNSYLVANIA-NEW JERSEY-MARYLAND INTERCONNECTION RESTRUCTURING

ER97-1082, 009, PENNSYLVANIA-NEW JERSEY-MARYLAND INTERCONNECTION

ER97-3189, 035, ATLANTIC CITY ELECTRIC COMPANY, BALTIMORE GAS AND ELECTRIC COMPANY, DELMARVA POWER & LIGHT COMPANY, JERSEY CENTRAL POWER & LIGHT COMPANY AND METROPOLITAN EDISON COMPANY

ER97-3273, 006, PENNSYLVANIA ELECTRIC COMPANY, PENNSYLVANIA POWER & LIGHT COMPANY, POTOMAC ELECTRIC POWER COMPANY, PUBLIC SERVICE ELECTRIC AND GAS COMPANY AND PENNSYLVANIA-NEW JERSEY-MARYLAND INTERCONNECTION RESTRUCTURING

OA97-678, 006, PJM INTERCONNECTION, L.L.C.

E-26.

DOCKET# EL02-129, 001, SOUTHERN CALIFORNIA WATER COMPANY

E-27.

OMITTED

E-28.

OMITTED

E-29.

DOCKET# EL04-36, 000, CONSOLIDATED EDISON COMPANY OF NEW YORK, INC., CONSOLIDATED EDISON SOLUTIONS, INC., KEYSPAN ENERGY SERVICES, INC., CONSTELLATION NEW-ENERGY, STRATEGIC ENERGY, NEW YORK ENERGY BUYERS FORUM AND CONSUMER POWER ADVOCATES v. NEW YORK INDEPENDENT SYSTEM OPERATOR, INC.

E-30.

DOCKET# EL04-103, 000, PACIFIC GAS & ELECTRIC COMPANY v. CALIFORNIA INDEPENDENT SYSTEM OPERATOR CORPORATION

OTHER#S ER04-835, 000, CALIFORNIA INDEPENDENT SYSTEM OPERATOR CORPORATION

E-31.

OMITTED

E-32.

OMITTED

E-33.

DOCKET# ER03-1328, 000, SIERRA PACIFIC RESOURCES OPERATING COMPANIES

E-34.

DOCKET# ER04-383, 000 SOUTHERN CALIFORNIA EDISON COMPANY

OTHER#S ER04-384, 000, SOUTHERN CALIFORNIA EDISON COMPANY

ER04-384, 001, SOUTHERN CALIFORNIA EDISON COMPANY

ER04-385, 000, SOUTHERN CALIFORNIA EDISON COMPANY

ER04-386, 000, SOUTHERN CALIFORNIA EDISON COMPANY

E-35.

DOCKET# ER03-1318, 002, NEW ENGLAND POWER POOL AND ISO-NEW ENGLAND INC.

OTHER#S ER03-1318, 003, NEW ENGLAND POWER POOL AND ISO-NEW ENGLAND INC.

E-36.

DOCKET# EL02-23, 000, CONSOLIDATED EDISON COMPANY OF NEW YORK, INC. v. PUBLIC SERVICE ELECTRIC AND GAS COMPANY, PJM INTERCONNECTION, L.L.C., AND NEW YORK INDEPENDENT SYSTEM OPERATOR, INC.

E-37.

DOCKET# OA97-261, 009, PENNSYLVANIA-NEW JERSEY-MARYLAND INTERCONNECTION

OTHER#S EC96-28, 009, ATLANTIC CITY ELECTRIC COMPANY, BALTIMORE GAS AND ELECTRIC COMPANY, DELMARVA POWER & LIGHT COMPANY, JERSEY CENTRAL POWER & LIGHT COMPANY, METROPOLITAN EDISON COMPANY, PENNSYLVANIA ELECTRIC COMPANY, PENNSYLVANIA POWER & LIGHT COMPANY, POTOMAC ELECTRIC POWER COMPANY AND PUBLIC SERVICE ELECTRIC AND GAS COMPANY

EC96-29, 009, PECO ENERGY COMPANY

EL96-69, 009, ATLANTIC CITY ELECTRIC COMPANY, BALTIMORE GAS AND ELECTRIC COMPANY, DELMARVA POWER & LIGHT COMPANY, JERSEY CENTRAL POWER & LIGHT COMPANY, METROPOLITAN EDISON COMPANY, PENNSYLVANIA ELECTRIC COMPANY, PENNSYLVANIA POWER & LIGHT COMPANY, POTOMAC ELECTRIC POWER COMPANY AND PUBLIC SERVICE ELECTRIC AND GAS COMPANY

ER96-2516, 010, ATLANTIC CITY ELECTRIC COMPANY, BALTIMORE GAS AND ELECTRIC COMPANY, DELMARVA POWER & LIGHT COMPANY, JERSEY CENTRAL POWER & LIGHT COMPANY, METROPOLITAN EDISON COMPANY, PENNSYLVANIA ELECTRIC COMPANY, PENNSYLVANIA POWER & LIGHT COMPANY, POTOMAC ELECTRIC POWER COMPANY AND PUBLIC SERVICE ELECTRIC AND GAS COMPANY

ER96-2668, 009, PECO ENERGY COMPANY

EC97-38, 007, PENNSYLVANIA ELECTRIC COMPANY, PENNSYLVANIA POWER & LIGHT COMPANY, POTOMAC ELECTRIC POWER COMPANY, PUBLIC SERVICE ELECTRIC AND GAS COMPANY, ATLANTIC CITY ELECTRIC COMPANY, BALTIMORE GAS AND ELECTRIC COMPANY, DELMARVA POWER & LIGHT COMPANY, JERSEY CENTRAL POWER & LIGHT COMPANY, JERSEY CENTRAL POWER & LIGHT COMPANY AND METROPOLITAN EDISON COMPANY

EL97-44, 007, PENNSYLVANIA-NEW JERSEY-MARYLAND INTERCONNECTION RESTRUCTURING

ER97-1082, 010, PENNSYLVANIA-NEW JERSEY-MARYLAND INTERCONNECTION

ER97-3189, 036, ATLANTIC CITY ELECTRIC COMPANY, BALTIMORE GAS AND ELECTRIC COMPANY, DELMARVA POWER & LIGHT COMPANY, JERSEY CENTRAL POWER & LIGHT COMPANY AND METROPOLITAN EDISON COMPANY

ER97-3273, 007, PENNSYLVANIA ELECTRIC COMPANY, PENNSYLVANIA POWER & LIGHT COMPANY, POTOMAC ELECTRIC POWER COMPANY, PUBLIC SERVICE ELECTRIC AND GAS COMPANY AND PENNSYLVANIA-NEW JERSEY-MARYLAND INTERCONNECTION RESTRUCTURING

OA97-678, 007, PJM INTERCONNECTION, L.L.C.

E-38.

OMITTED

E-39.

DOCKET# ER03-358, 000, PACIFIC GAS AND ELECTRIC COMPANY

E-40.

DOCKET# ER03-989, 000, NIAGARA MOHAWK POWER CORPORATION

OTHER#S ER03-989, 001, NIAGARA MOHAWK POWER CORPORATION

ER03-990, 000, NIAGARA MOHAWK POWER CORPORATION

ER03-990, 001, NIAGARA MOHAWK POWER CORPORATION

ER03-991, 000, NIAGARA MOHAWK POWER CORPORATION

ER03-991, 001, NIAGARA MOHAWK POWER CORPORATION

ER03-992, 000, NIAGARA MOHAWK POWER CORPORATION

ER03-992, 001, NIAGARA MOHAWK POWER CORPORATION

E-41.

DOCKET# EL04-106, 000, MIDAMERICAN ENERGY COMPANY

OTHER#S ER96-719, 000, MIDAMERICAN ENERGY COMPANY

Miscellaneous Agenda

M-1.

DOCKET# RM01-5, 000, ELECTRONIC TARIFF FILINGS—GAS, OIL AND ELECTRIC

Markets, Tariffs and Rates—Gas

G-1.

DOCKET# TS04-51, 000, BEAR CREEK STORAGE COMPANY

OTHER#S TS04-4, 000, KB PIPELINE COMPANY AND NORTHWEST NATURAL GAS COMPANY

TS04-5, 000, HAMPSHIRE GAS COMPANY

TS04-97, 000, TOTAL PEAKING SERVICES, LLP

TS04-213, 000, TUSCARORA GAS TRANSMISSION COMPANY

TS04-256, 000, MIGC, INC.

TS04-259, 000, MISSOURI INTERSTATE GAS, LLC

TS04-266, 000, MIGC, INC.

G-2.

DOCKET# RP04-325, 000, MIDWESTERN GAS TRANSMISSION COMPANY

G-3.

DOCKET# RP96-200, 123, CENTERPOINT ENERGY GAS TRANSMISSION COMPANY

G-4.

DOCKET# RP04-328, 000, EL PASO NATURAL GAS COMPANY

G-5.

DOCKET# PR04-8, 000, ARKANSAS OKLAHOMA GAS CORPORATION

G-6.

OMITTED

G-7.

DOCKET# RP04-155, 001, NORTHERN NATURAL GAS COMPANY

G-8.

DOCKET# RP04-201, 001, ANR PIPELINE COMPANY

G-9.

DOCKET# RP98-40, 035, PANHANDLE EASTERN PIPE LINE COMPANY, LLC

G-10.

DOCKET# RP03-162, 011, TRAILBLAZER PIPELINE COMPANY

G-11.

DOCKET# RP04-237, 001, TRAILBLAZER PIPELINE COMPANY

G-12.

DOCKET# RP00-404, 008, NORTHERN NATURAL GAS COMPANY

OTHER#S RP00-404, 009, NORTHERN NATURAL GAS COMPANY

RP00-404, 010, NORTHERN NATURAL GAS COMPANY

RP00-404, 011, NORTHERN NATURAL GAS COMPANY

RP00-404, 012, NORTHERN NATURAL GAS COMPANY

RP00-404, 013, NORTHERN NATURAL GAS COMPANY

RP03-398, 006, NORTHERN NATURAL GAS COMPANY

G-13.

OMITTED

G-14.

OMITTED

G-15.

DOCKET# RP04-34, 001, EL PASO NATURAL GAS COMPANY

G-16.

DOCKET# RP04-233, 002, TENNESSEE GAS PIPELINE COMPANY

OTHER#S RP04-233, 001, TENNESSEE GAS PIPELINE COMPANY

G-17.

OMITTED

G-18.

OMITTED

G-19.

DOCKET# RM93-11, 002, REVISIONS TO OIL PIPELINE REGULATIONS PURSUANT TO THE ENERGY POLICY ACT OF 1992

G-20.

DOCKET# RP04-327, 000, ANR PIPELINE COMPANY

Energy Projects—Hydro

H-1.

OMITTED

H-2.

OMITTED

H-3.

DOCKET# P-2016, 071, CITY OF TACOMA, WASHINGTON

H-4.

DOCKET# P-5018, 004, WELLESLEY ROSEWOOD MAYNARD MILLS, L.P.

H-5.

DOCKET# P-516, 379, SOUTH CAROLINA ELECTRIC & GAS COMPANY

H-6.

DOCKET# P-516, 380, SOUTH CAROLINA ELECTRIC & GAS COMPANY

H-7.

DOCKET# P-1971, 088, IDAHO POWER COMPANY

Energy Projects—Certificates

C-1.

DOCKET# CP04-51, 000, ANR PIPELINE COMPANY

C-2.

DOCKET# CP02-229, 001, SG RESOURCES MISSISSIPPI, L.L.C.

C-3.

DOCKET# CP04-149, 000, STINGRAY PIPELINE COMPANY, L.L.C.

C-4.

DOCKET# CP04-80, 000, WPS-ESI GAS STORAGE, LLC

C-5.

DOCKET# CP03-302, 003, CHEYENNE PLAINS GAS PIPELINE COMPANY, L.L.C.

C-6.

DOCKET# CP03-342, 002, DISCOVERY GAS TRANSMISSION LLC

OTHER#S CP03-343, 002, DISCOVERY PRODUCER SERVICES LLC

CP04-50, 001, TEXAS EASTERN TRANSMISSION, LP

C-7.

DOCKET# CP03-350, 001, GEORGIA STRAIT CROSSING PIPELINE LP

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Magalie R. Salas,
Secretary.

[FR Doc. 04-15434 Filed 7-1-04; 3:53 pm]

BILLING CODE 6717-01-P